DEPARTMENT OF THE INTERIOR

Geological Survey

[GX16EE000101100]

Announcement of National Geospatial Advisory Committee Meeting

AGENCY: U.S. Geological Survey, Interior.

ACTION: Notice of meeting.

SUMMARY: The National Geospatial Advisory Committee (NGAC) will meet on June 14-15, 2016 at the U.S. Department of Transportation (DOT) Building, 1200 New Jersey Avenue SE., Washington, DC 20590. The meeting will be held in the DOT Conference Center, in the Oklahoma Room. The NGAC, which is composed of representatives from governmental, private sector, non-profit, and academic organizations, has been established to advise the Chair of the Federal Geographic Data Committee on management of Federal geospatial programs, the development of the National Spatial Data Infrastructure, and the implementation of Office of Management and Budget (OMB) Circular A-16. Topics to be addressed at the meeting include:

—Leadership Dialogue

—FGDC Update

—NGAC Subcommittee Activities

—Emerging Technologies

—NSDI Strategic Plan Framework

—National Parcel Data

Members of the public who wish to attend the meeting must register in advance for clearance into the meeting site. Please register by contacting Lucia Foulkes at the Federal Geographic Data Committee (703-648-4142, lfoulkes@usgs.gov). Registrations are due by June 10, 2016. While the meeting will be open to the public, registration is required for entrance to the Department of Transportation Building, and seating may be limited due to room capacity. The meeting will include an opportunity for public comment on June 15. Attendees wishing to provide public comment should register by June 10. Please register by contacting Lucia Foulkes at the Federal Geographic Data Committee (703-648-4142, lfoulkes@usgs.gov). Comments may also be submitted to the NGAC in writing.

DATES: The meeting will be held from 8:30 p.m. to 5:30 p.m. on June 14 and from 8:30 a.m. to 4:00 p.m. on June 15.

FOR FURTHER INFORMATION CONTACT: John Mahoney, U.S. Geological Survey (206-220-4621).

SUPPLEMENTARY INFORMATION: Meetings of the National Geospatial Advisory Committee are open to the public. Additional information about the NGAC and the meeting are available at www.fgdc.gov/ngac.

Kenneth Shaffer,
Deputy Executive Director, Federal Geographic Data Committee.

[FR Doc. 2016-12249 Filed 5-24-16; 8:45 am]

BILLING CODE 4338-11-P